DEPARTMENT OF LABOR

Employment and Training Administration

[TA-W-55,427]

Kincaid Furniture Taylorsville, NC; Notice of Negative Determination Regarding Application for Reconsideration

By application of September 23, 2004, a petitioner requested administrative reconsideration of the Department's negative determination regarding eligibility for workers and former workers of the subject firm to apply for Trade Adjustment Assistance (TAA). The denial notice was signed on September 8, 2004 and published in the Federal Register on September 23, 2004 (69 FR 57093).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The TAA petition, which was filed on behalf of workers at Kincaid Furniture, Taylorsville, North Carolina engaged in the production of upholstered furniture products (sofas and chairs), was denied because criterion (1) was not met. The investigation revealed no decline in employment during the relevant time period.

In the request for reconsideration, the petitioner alleges that the company official of the subject firm did not report accurate employment data and that there was a significant number of layoffs among the administrative support at Kincaid Furniture in Taylorsville, North Carolina. The petitioner also stated upon further contact that a big portion of production employees has been recently separated from the subject firm.

A company official was contacted in regards to these allegations. Two of the company officials confirmed the accuracy of the employment numbers provided by the subject firm during the original investigation and verified that employment at the subject firm increased by approximately fifteen percent during the relevant time period. The company official also stated that there were no recent separations at the subject firm as alleged by the petitioner.

The petitioner further alleges that because workers of several sister companies at various locations were granted certification for TAA, workers of the subject firm should also be eligible for TAA.

When assessing eligibility for TAA, the Department makes its determinations based on the requirements as outlined in Section 222 of the Trade Act. In particular, the Department considers the relevant employment data for the facility where the petitioning worker group was employed. As employment levels at the subject facility did not decline in the relevant period, criteria (I.A.) of Section (a)(2)(A) has not been met.

Conclusion

After review of the application and investigative findings, I conclude that there has been no error or misinterpretation of the law or of the facts which would justify reconsideration of the Department of Labor's prior decision. Accordingly, the application is denied.

Signed at Washington, DC, this 27th day of October, 2004.
Elliott S. Kushner,
Certifying Officer, Division of Trade Adjustment Assistance.

[FR Doc. E4-3020 Filed 11-4-04; 8:45 am]

BILLING CODE 4510-30-P